DEPARTMENT OF ENERGY

Federal Energy Regulatory Commission

[Project No. 12659-002]

Richard V. Williamson: Notice of Surrender of Preliminary Permit

June 7, 2007.

Take notice that Richard V. Williamson, permittee for the proposed Stony Creek Water Power Project, has requested that its preliminary permit be terminated. The permit was issued on October 25, 2006, and would have expired on September 30, 2009.¹ The project would have been located on Stony Creek in Colusa County, California.

¹ 117 FERC ¶ 62,068.

The permittee filed the request on May 23, 2007, and the preliminary permit for Project No. 12659 shall remain in effect through the thirtieth day after issuance of this notice unless that day is a Saturday, Sunday, part-day holiday that affects the Commission, or legal holiday as described in section 18 CFR 385.2007, in which case the effective date is the first business day following that day. New applications involving this project site, to the extent provided for under 18 CFR part 4, may be filed on the next business day.

Kimberly D. Bose,
Secretary.

[FR Doc. E7-11463 Filed 6-13-07; 8:45 am]

BILLING CODE 6717-01-P